DEPARTMENT OF TRANSPORTATION

Federal Aviation Administration

14 CFR Part 71

[Docket No. FAA-2014-0839; Airspace Docket No. 14-AEA-7]

Amendment of Class E Airspace; Selinsgrove, PA

AGENCY: Federal Aviation Administration (FAA), DOT.

ACTION: Final rule, correction.

SUMMARY: This action corrects a final rule published in the Federal Register on March 5, 2018, amending Class E airspace at Penn Valley Airport, Selinsgrove, PA, by correcting the geographic coordinates of the airport. This is an administrative change to coincide with the FAA's aeronautical database.

DATES: Effective 0901 UTC, May 24, 2018. The Director of the Federal Register approves this incorporation by reference action under title 1, Code of Federal Regulations, part 51, subject to the annual revision of FAA Order 7400.11 and publication of conforming amendments.

FOR FURTHER INFORMATION CONTACT: John Fornito, Operations Support Group, Eastern Service Center, Federal Aviation Administration, 1701 Columbia Avenue, College Park, GA 30337; telephone (404) 305-6364.

SUPPLEMENTARY INFORMATION:

History

The FAA published a final rule in the Federal Register (83 FR 9181, March 5, 2018) for Docket No. FAA-2014-0839 amending Class E airspace area extending upward from 700 feet or more above the surface at Penn Valley Airport, Selinsgrove, PA. Subsequent to publication, the FAA identified a clerical error in the legal description of the airport. This action corrects the geographic coordinates from '(Lat. 40°49′16″ N., long. 76°51′551″ W.)'; to '(Lat. 40°49′16″ N., long. 76°51′51″ W.)'.

Correction to Final Rule

Accordingly, pursuant to the authority delegated to me, in the Federal Register of March 5, 2018 (83 FR 9181) FR Doc. FAA-2014-0839, Amendment of Class E Airspace for Penn Valley Airport, Selinsgrove, PA, is corrected as follows:

§ 71.1 [Amended]

AEA PA E5 Selinsgrove, PA [Corrected]

On page 9182, column 3, line 27, remove

'(Lat. 40°49′16″ N., long. 76°51′551″ W.)', and in its place,

'(Lat. 40°49′16″ N., long. 76°51′51″ W.)',

Issued in College Park, Georgia, on March 27, 2018.
Ryan W. Almasy
Manager, Operations Support Group, Eastern Service Center, Air Traffic Organization.

[FR Doc. 2018-06754 Filed 4-4-18; 8:45 am]

BILLING CODE 4910-13-P